DEPARTMENT OF COMMERCE

Bureau of Industry and Security

Agency Information Collection Activities; Submission to the Office of Management and Budget (OMB) for Review and Emergency Approval; Comment Request; Risks in the Semiconductor Supply Chain

The Department of Commerce (Bureau of Industry and Security) led the 100 Day Supply Chain Review of Semiconductors and Advanced Packaging that was mandated by Presidential Executive Order 14017. On February 24, 2021, President Biden issued Executive Order 14017 (E.O. 14017) on “America's Supply Chains,” which directs several federal agency actions to secure and strengthen America's supply chains.

This review, included in the White House Report “Building Resilient Supply Chains, Revitalizing Domestic Manufacturing, and Fostering Broad-Based Growth (100-day-supplychain-review-report.pdf (whitehouse.gov)”, identified numerous areas of supply chain vulnerabilities. In addition to the longer-term goals such as strengthening the domestic semiconductor manufacturing ecosystem and promoting U.S. leadership, this report called upon the Department of Commerce to partner with industry to facilitate information flow between semiconductor producers and suppliers and end-users to address the current semiconductor shortage. The ongoing shortages in the semiconductor product supply chain is having an adverse impact on a wide range of industry sectors. With the goal of accelerating the information flow across various segments of the supply chain and identifying data gaps and bottlenecks in the supply chain, the Department is seeking input from interested parties (including domestic and foreign semiconductor design firms, semiconductor manufacturers, materials and equipment suppliers, as well as semiconductor intermediate and end-users).

The Department invites the general public and other Federal agencies to comment on proposed, and continuing information collections, which helps us assess the impact of our information collection requirements and minimize the public's reporting burden.

Agency: Bureau of Industry and Security, Commerce.

Title: Risks in the Semiconductor Supply Chain.

OMB Control Number: 0694-xxxx.

Form Number(s): 0694-xxxx.

Type of Request: Emergency Clearance Request, new collection.

Number of Respondents: 100.

Average Hours per Response: 4 hours.

Burden Hours: 400.

Needs and Uses: This data is needed to assess the status of the semiconductor industry and identify specific issues and challenges in the supply chain. Qualitative questions are used in some limited cases to complement the statistical data. Using the aggregated form data, the overall goal is to enable Commerce and other government agencies to add transparency on the semiconductor supply and demand mismatch and identify common bottlenecks and chokepoints. This information will advance transparency in the semiconductor supply chain and inform any government or private sector actions to address the ongoing shortage and alleviate the economic impact of the shortage.

Affected Public: Business or other for-profit organizations.

Frequency: One time only.

Respondent's Obligation: Voluntary.

Legal Authority: Executive Order 14017.

This information collection request may be viewed at www.reginfo.gov. Follow the instructions to view the Department of Commerce collections currently under review by OMB.

Written comments and recommendations for the proposed information collection should be submitted within two days of the publication of this notice on the following website www.reginfo.gov/public/do/PRAMain. Find this particular information collection by selecting “Currently under 30-day Review—Open for Public Comments” or by using the search function and entering the title of the collection, “Risks in the Semiconductor Supply Chain.”

Sheleen Dumas,
Department PRA Clearance Officer, Office of the Chief Information Officer, Commerce Department.

[FR Doc. 2021-19946 Filed 9-14-21; 8:45 am]

BILLING CODE 3510-07-P